SMALL BUSINESS ADMINISTRATION

[Declaration of Disaster #3652]

State of Hawaii

The city and county of Honolulu in the State of Hawaii constitutes a disaster area as a result of heavy rains and flooding that occurred on October 30, 2004 on the island of Oahu. Applications for loans for physical damage as a result of this disaster may be filed until the close of business on January 18, 2005, and for economic injury until the close of business on August 16, 2005, at the address listed below or other locally announced locations: U.S. Small Business Administration, Disaster Area 4 Office, P.O. Box 419004, Sacramento, CA 95841-9004.

The interest rates are:

| Percent
For Physical Damage:
Homeowners with Credit Available Elsewhere | 5.875
Homeowners Without Credit Available Elsewhere | 2.937
Businesses With Credit Available Elsewhere | 5.800
Businesses and Non-Profit Organizations Without Credit Available Elsewhere | 4.000
Others (Including Non-Profit Organizations) with Credit Available Elsewhere | 4.750
For Economic Injury:
Businesses and Small Agricultural Cooperatives Without Credit Available Elsewhere | 4.000

The number assigned to this disaster for physical damage is 365206 and for economic damage is 9AJ700.

(Catalog of Federal Domestic Assistance Program Nos. 59002 and 59008.)

Dated: November 16, 2004.
Hector V. Barreto,
Administrator

[FR Doc. 04-26014 Filed 11-23-04; 8:45 am]

BILLING CODE 8025-01-P